OVERSEAS PRIVATE INVESTMENT CORPORATION

[OMB 3420-0034; OPIC-253]

Submission for OMB Review; Comments Request

AGENCY: Overseas Private Investment Corporation (OPIC).

ACTION: Notice and request for comments.

SUMMARY: Under the provisions of the Paperwork Reduction Act, agencies are required to publish a Notice in the Federal Register notifying the public that the agency is renewing an existing information collection for OMB review and approval and requests public review and comment on the submission. OPIC received no comments in response to the sixty (60) day notice. The purpose of this notice is to allow an additional thirty (30) days for public comments to be submitted. Comments are being solicited on the need for the information; the accuracy of OPIC's burden estimate; the quality, practical utility, and clarity of the information to be collected; and ways to minimize reporting the burden, including automated collected techniques and uses of other forms of technology.

DATES: Comments must be received within thirty (30) calendar days of publication of this Notice.

ADDRESSES: Mail all comments and requests for copies of the subject form to OPIC's Agency Submitting Officer: James Bobbitt, Overseas Private Investment Corporation, 1100 New York Avenue NW., Washington, DC 20527. See SUPPLEMENTARY INFORMATION for other information about filing.

FOR FURTHER INFORMATION CONTACT: OPIC Agency Submitting Officer: James Bobbitt, (202) 336-8558.

SUPPLEMENTARY INFORMATION: OPIC received no comments in response to the sixty (60) day notice published in Federal Register volume 82 page 42366 on September 7, 2017. All mailed comments and requests for copies of the subject form should include form number OPIC-253 on both the envelope and in the subject line of the letter. Electronic comments and requests for copies of the subject form may be sent to James.Bobbitt@opic.gov, subject line OPIC-253.

Summary Form Under Review

Type of Request: Revision of a currently approved information collection.

Title: Aligned Capital Investor Screener.

Form Number: OPIC-253.

Frequency of Use: Once per investor.

Type of Respondents: Foundations, non-profit entities; investment fund managers, investment companies; US Government Agencies.

Standard Industrial Classification Codes: All.

Description of Affected Public: U.S. companies interested in making investments in companies investing overseas.

Reporting Hours: 16.5 hours (.33 hours per investor).

Number of Responses: 50 per year.

Federal Cost: $0.

Authority for Information Collection: Sections 231 and 239(d) of the Foreign Assistance Act of 1961, as amended.

Abstract (Needs and Uses): The Aligned Capital Investor Screener is a document used to screen potential investors interested in participating in OPIC's Aligned Capital Program and, if they qualify, to place their information into the program. The Aligned Capital Program is designed to align development finance with other capital, including philanthropic, socially responsible and impact investment, to enable effective deployment of that capital towards projects in the countries and sectors in which OPIC works. In order to participate, investors must be U.S. entities and meet the additional specified criteria.

Dated: November 8, 2017.
Nichole Skoyles,
Administrative Counsel, Department of Legal Affairs.

[FR Doc. 2017-24600 Filed 11-13-17; 8:45 am]

BILLING CODE 3210-01-P